COMMODITY FUTURES TRADING COMMISSION

Reestablishment of the Agricultural Advisory Committee

AGENCY: Commodity Futures Trading Commission.

ACTION: Notice of Federal Advisory Committee Reestablishment.

SUMMARY: The Commodity Futures Trading Commission has determined to reestablish the charter of its Agricultural Advisory Committee.

FOR FURTHER INFORMATION CONTACT: Gail B. Scott, Committee Management Officer, at 202-418-5139. Written comments should be submitted to David A. Stawick, Secretary, Commodity Futures Trading Commission, Three Lafayette Centre, 1155 21st Street NW., Washington, DC 20581. Electronic comments may be submitted to dstawick@cftc.gov.

Comments may also be submitted by any of the following methods:

The agency's Web site, at http://comments.cftc.gov. Follow the instructions for submitting comments through the Web site.

Hand Delivery/Courier: Same as mail above.

Please submit your comments using only one method and identity that it is for the reestablishment of the Agricultural Advisory Committee.

All comments must be submitted in English, or if not, accompanied by an English translation. Comments will be posted as received to www.cftc.gov. You should submit only information that you wish to make available publicly. If you wish the Commission to consider information that you believe is exempt from disclosure under the Freedom of Information Act, a petition for confidential treatment of the exempt information may be submitted according to the procedures established in § 145.9 of the Commission's regulations.¹

¹ See 17 CFR 145.9.

SUPPLEMENTARY INFORMATION: The Commodity Futures Trading Commission (“Commission”) has determined to reestablish its Agricultural Advisory Committee. The Commission has determined that reestablishing the advisory committee is in the public interest in connection with the duties imposed on the Commission by the Commodity Exchange Act, 7 U.S.C. 1-26, as amended. The Agricultural Advisory Committee will operate for two years from the date of renewal unless, before the expiration of that time period, its charter is renewed in accordance with section 14(a)(2) of the Federal Advisory Committee Act, or the Chairman of the Commission, with the concurrence of the other Commissioners, shall direct that the advisory committee terminate on an earlier date.

The purpose of the Agricultural Advisory Committee is to conduct public meetings and submit reports and recommendations to assist the Commission in assessing issues affecting agricultural producers, processors, lenders and others interested in or affected by the agricultural commodity, futures, and swaps markets.

Meetings of the Agricultural Advisory Committee are open to the public.

The Commission may reestablish the Agricultural Advisory Committee by filing the reestablishment charter with the Commission; the Senate Committee on Agriculture, Nutrition and Forestry; the House Committee on Agriculture; the Library of Congress; and the General Services Administration's Committee Management Secretariat at least fifteen (15) calendar days after this notice of reestablishment appears in the Federal Register. A copy of the reestablishment charter will also be posted on the Commission's Web site at www.cftc.gov.

Issued in Washington, DC, on June 25, 2012 by the Commission.
David A. Stawick,
Secretary of the Commission.

[FR Doc. 2012-16006 Filed 6-28-12; 8:45 am]

BILLING CODE P